DEPARTMENT OF HEALTH AND HUMAN SERVICES

Centers for Disease Control and Prevention

Patents and Inventions; Delegation of Authority

Notice is hereby given that I have delegated to the Director, Division of Laboratory Policy and Practice (DLPP), Laboratory Science Policy and Practice Program Office (LSPPPO), Office of Surveillance, Epidemiology and Laboratory Services (OSELS), Centers for Disease Control and Prevention (CDC), the Deputy Director, DLPP, LSPPPO, OSELS, CDC, and the Chief, Technology Management Branch, DLPP, LSPPPO, OSELS, without authority to redelegate, all authorities to administer and make decisions regarding the invention and patent program of CDC and the authority to make determinations of rights in inventions and patents in which CDC and the Department have an interest.

This delegation excludes the authority under 35 U.S.C. 203 (March-in Rights) and the authority to submit reports to Congress.

In addition, this delegation excludes those authorities under the Stevenson-Wydler Technology Act of 1980, as amended by the Federal Technology Transfer Act of 1986 and the National Technology Transfer and Advancement Act of 1995, which are governed by a separate delegation.

The exercise of this authority must be in accordance with applicable laws, regulations, and Office of Government Ethics, U.S. Office of Personnel Management, and DHHS policies and instructions.

This delegation became effective upon date of signature. I hereby affirm and ratify any actions taken that involve the exercise of the authorities delegated herein prior to the effective date of this delegation.

Dated: May 14, 2012.
Thomas R. Frieden,
Director, Centers for Disease Control and Prevention.

[FR Doc. 2012-13238 Filed 5-31-12; 8:45 am]

BILLING CODE 4160-18-M